DEPARTMENT OF JUSTICE

Office of Justice Programs

[OJP (NIJ) Docket No. 1666]

Mobile License Plate Reader System Standard for Law Enforcement and Supplier's Declaration of Conformity Requirements

AGENCY: National Institute of Justice, DOJ.

ACTION: Notice and Request for Comments.

SUMMARY: In an effort to obtain comments from interested parties, the U.S. Department of Justice, Office of Justice Programs, National Institute of Justice (NIJ) will make available to the general public two draft documents related to Mobile License Plate Reader Systems (LPR) used by criminal justice agencies:

1. Draft Mobile License Plate Reader System Standard for Law Enforcement

2. Draft Mobile LPR System Supplier's Declaration of Conformity Requirements

The opportunity to provide comments on these documents is open to industry technical representatives; criminal justice agencies and organizations; research, development, and scientific communities; and all other stakeholders and interested parties. Those individuals wishing to obtain and provide comments on the draft documents under consideration are directed to the following Web site: https://www.justnet.org/standards/License_Plate_Readers.html.

DATES: Comments must be received by 5 p.m. Eastern Time on October 6, 2014.

FOR FURTHER INFORMATION CONTACT: Mark Greene, by telephone at (202) 307-3384 [Note: This is not a toll-free telephone number], or by email at mark.greene2@usdoj.gov.

William Sabol,
Acting Director, National Institute of Justice.

[FR Doc. 2014-19977 Filed 8-21-14; 8:45 am]

BILLING CODE 4410-18-P